DEPARTMENT OF THE INTERIOR

Bureau of Land Management

[OR-054-1220-AA; GP-03-0019]

Notice of Closure; Notice of Permanent Motor Vehicle Restriction on Public Lands; Deschutes/Crook County, OR

AGENCY: Bureau of Land Management, Prineville District, Deschutes Resource Area/Field Office.

ACTION: Notice is hereby given that off-highway vehicle (OHV) travel within the Millican Valley OHV Trail System is restricted to designated routes only. The Millican Valley OHV Trail System is located approximately 20 miles East of Bend, Oregon in Crook and Deschutes Counties. Specifically, this closure order applies to all public lands within the following perimeter description:

Perimeter Description: Beginning at the intersection of State Highway 20 and BLM road #6521, then southeast on Highway 20 to the Horse Ridge summit, then southwest to road #6515-A and northwest. The perimeter then goes south through private property until it reaches road # 6515-AA and south to the junction with road #6515-C, then along road #6515-C south to County Road 2015, then east to County Road 2016. The perimeter then follows the BLM/Forest Service property boundary east, south and east again crossing Forest Service roads 23 and 25 perpendicularly. The perimeter turns north between ranges 14 and 15 east, turning east on the north edge of section 19 of T20S R15E. It follows the BLM/private property boundary north running into the old Bend to Burns road. The perimeter then follows the old road east, continuing into the airstrip and finally Highway 20. At section 32 of T19S R 16E the perimeter follows the BLM/private property boundary north. The perimeter continues along the property boundaries in a generally northeasterly direction until it runs into and follows road #6522 northwest. It then turns north on the section line between 14 and 15 and 10 and 11 and turns west following the northern section lines of 10, 9, 8 and 7 of T19S R16E and section 12 of T19S R15E. The perimeter then turns north again following the section line between 1 and 2 of T19S R 15 E. At this point it follows the contour of West Butte until it runs into the southwest corner of the private property in section 18 of T18S R16E. The perimeter then goes north along the west section line of 7 and 6 to the middle of 6 where it follows the BLM/private property line east and north to the north section line of section 6. It turns north and goes through private property in the east quarter of section 31 in T17S R16E. It again follows the private property boundary east and north through sections 30 and 29. In section 29 it follows an existing road east and north until it meets SW Reservoir Road. The perimeter crosses SW Reservoir Road and follows road # 6555-B in a northwesterly direction until it runs into private property. It follows the private property line west and north to the north quarter of section 35, T16S R15E. Here, it turns west and runs into the high voltage transmission line with steel supports. It follows the transmission line south to the southern section line of section 21, T17S R15E. The perimenter follows section 21 west and continues west on Alfalfa Market Road to the powerline supported by double wooden poles. The perimeter follows this powerline south to its intersection with the previously mentioned transmission line and again goes south following the steel tower transmission line to road #5620-B. The perimeter follows #5620-B until it intersects with #6521 and follows #6521 to the point of beginning.

SUMMARY: The BLM is required to restrict motorized use to designated trails within the Millican Valley OHV Trail System. In addition, there are seasonal restrictions on those portions of the trail system called North and South Millican. North Millican is considered that portion of the trail system between Highway 20 and Kitchen Hill and is closed to OHV's from December 1st through April 30th. South Millican is the area of the trail system south of Highway 20. It is closed to OHV's from December 1st through July 31st. These restrictions are necessary to comply with the federal consent judgment in Central Oregon Forest Issues Committee, Oregon Natural Desert Association and Oregon Natural Resources Council v. James G. Kenna, Deschutes Area Manager, Prineville District, Bureau of Land Management, Civil Action No. 98-29-ST (D. OR.) that was lodged with the United States District Court for the District of Oregon on November 23, 1999.

This 1999 federal consent judgment resulted from the settlement of a lawsuit between the Oregon Forest Issues Committee and other environmental organizations who took BLM to federal court in 1998, regarding its environmental assessment/management plan for the Millican Valley OHV Trail System. In December 1999, the federal court requested BLM obtain public comments regarding the proposed federal court consent judgment.

Public comments were considered and reviewed by the federal court judge before the consent judgment was finalized. The Millican Valley OHV Trail System interim map was produced as a result.

DATES: This closure will take effect on the date this notice is published in the Federal Register. The closure will remain in effect until the BLM modifies or rescinds this order.

ADDRESSES: Bureau of Land Management, Deschutes Resource Area, 3050 NE. 3rd Street, Prineville, OR 97754.

FOR FURTHER INFORMATION CONTACT: Contact Sarah Schartz, OHV Coordinator, 3050 NE. 3rd Street, Prineville, OR 97754. (541) 416-6865.

Discussion of Rules: The public lands affected by this proposed OHV restriction are all lands administered by the BLM within the Millican Valley OHV Trail System. Maps are available at entry points to the trail system as well as BLM and Forest Service offices in Central Oregon. In addition, maps are distributed to OHV dealerships around Central Oregon and they are available on the World Wide Web. Trails are numbered and signed on the ground, as are the seasonal closures.

For the purpose of this restriction “off-highway vehicle” is defined as any motorized vehicle capable of, or designed for, travel on or immediately over land, water or other natural terrain, excluding: (1) Any non-amphibious registered motorboat; (2) any military, fire, emergency or law enforcement vehicle while being used for emergency purposes; (3) any vehicle whose use is expressly authorized by the authorized officer, or otherwise officially approved; (4) vehicles in official use; and (5) any combat or combat support vehicle when used in times of national defense emergencies.

Prohibited Acts: Under 43 CFR 8360.0-7 The Bureau of Land Management will enforce the following rules within the Millican Valley OHV Trail System:

a. Operation of an OHV off designated routes is prohibited, and

b. Operation of an OHV within the North Millican portion of the Millican Valley OHV Trail System is prohibited from December 1st through April 30th, and

c. Operation of an OHV within the South Millican portion of the Millican Valley OHV Trail System is prohibited from December 1st through July 31st.

Exemptions: This closure does not apply to persons who are exempt from these rules (including: Federal, State, or local officer or employee in the scope of his or her duties, members of any organized rescue or fire-fighting force in performance of an official duty, and any person authorized in writing by the Bureau of Land Management).

Penalties: The authorities for this closure are section 303(a) of the Federal Land Policy and Management Act of 1976 (43 U.S.C. 1733(a) and 43 CFR 8360.0-7. Any person who violates this closure may be fined no more than $1000 or imprisoned for no more than 12 months, or both. Such violations may also be subject to the higher fines provided for by 18 U.S.C. 3571.

Rachel A. Carver,
Acting, District Manager, Prineville District, Oregon, Bureau of Land Management.

[FR Doc. 03-600 Filed 1-10-03; 8:45 am]

BILLING CODE 4310-33-P